FEDERAL COMMUNICATIONS COMMISSION

[PS Docket No. 10-255 and PS Docket No. 11-153; FCC 14-6]

Facilitating the Deployment of Text-to-911 and Other Next Generation 911 Applications; Framework for Next Generation 911 Deployment

AGENCY: Federal Communications Commission.

ACTION: Policy Statement.

SUMMARY: The Federal Communications Commission (Commission) adopts a Policy Statement expressing its belief that every CMRS carrier and every provider that enables a consumer to send text messages using numbers from the North American Numbering Plan should support text-to-911 capabilities. The Commission intends to pursue a technologically-neutral approach that provides platform-independent norms for all stakeholders, based on high-level functional standards set by the relevant stakeholders in industry and the public safety community.

FOR FURTHER INFORMATION CONTACT: Timothy May, Public Safety and Homeland Security Bureau, (202) 418-1463 or timothy.may@fcc.gov.

SUPPLEMENTARY INFORMATION: People with Disabilities: To request materials in accessible formats for people with disabilities (braille, large print, electronic files, audio format), send an email to fcc504@fcc.gov or call the Consumer & Governmental Affairs Bureau at 202-418-0530 (voice), 202-418-0432 (tty).

Policy Statement

The Federal Communications Commission (Commission) believes that every CMRS carrier and every provider that enables a consumer to send text messages using numbers from the North American Numbering Plan should support text-to-911 capabilities.

The Commission intends to pursue a technologically-neutral approach that provides platform-independent norms for all stakeholders, based on high-level functional standards set by the relevant stakeholders in industry and the public safety community. Stakeholders should develop implementation details on a consensual basis in a manner that enables fact-based monitoring of progress by the relevant industry bodies, 911 and public safety authorities, and regulatory agencies. If the multi-stakeholder process achieves these values in a timely manner, we envision that any overarching functional rule adopted by the Commission would not need to impose additional obligations beyond those agreed to in the multi-stakeholder context. Rather, we expect that it would be needed only to codify the multi-stakeholder standard so it applies to all providers equally (including future entrants into the market) in a manner that brings regulatory clarity so that all participants in the 911 ecosystem can plan accordingly.

The Commission is particularly pleased that certain carriers have taken a leadership role on this issue and worked with public safety organizations to establish a May 15, 2014, deadline by which those carriers would support text-to-911 service nationwide. We encourage CMRS and interconnected text providers that are not parties to the Carrier-NENA-APCO Agreement to work with the public safety community to develop similar commitments to support text-to-911 in a timely manner, so that all consumers will be assured access to text-to-911 regardless of what text provider they choose.

Federal Communications Commission.
Marlene H. Dortch,
Secretary.

[FR Doc. 2014-04230 Filed 2-25-14; 8:45 am]

BILLING CODE 6712-01-P